ENVIRONMENTAL PROTECTION AGENCY

[FRL-7070-5]

San Gabriel Superfund Site; Notice of Administrative Settlement

AGENCY: Environmental Protection Agency (EPA).

ACTION: Notice.

SUMMARY: In accordance with the Comprehensive Environmental Response, Compensation and Liability Act of 1980, as amended by the Superfund Amendments and Reauthorization Act of 1986 (CERCLA), 42 U.S.C. 9600 et seq., notice is hereby given that an Agreement and Covenant Not to Sue (Prospective Purchaser Agreement, or PPA) associated with the San Gabriel Superfund Site Superfund Site was executed by the U.S. Environmental Protection Agency (EPA) on September 25, 2001. The Prospective Purchaser Agreement resolves potential claims of the United States under sections 106 and 107(a) of CERCLA, 42 U.S.C. 9606 and 9607(a) against Northrop Grumman Systems Corporation, a Delaware corporation, (the Purchaser). The Purchaser plans to acquire Aerojet-General Corporation's electronics plant, comprising approximately 70, located at 1100 West Hollyvale Avenue, Azusa, California within the Baldwin Park Operable Unit (BPOU) of the San Gabriel Valley Superfund Site. The Purchaser intends to use the plant for the design and manufacture of space-based sensors and smart weapons.

A notice of the proposed PPA and opportunity for public comment was published August 10, 2001 at 66 FR 42227. Based on a review of the public comments and EPA's independent analysis of the facts and circumstances concerning this matter, EPA has modified the proposed PPA.

The primary modification is that EPA has significantly increased the amount of consideration required in exchange for the liability release granted to the Purchaser. Specifically, the PPA now requires Aerojet to provide an additional $40 million in cash for deposit into a third-party escrow account.

The settlement now provides the following benefits to EPA: the Purchaser will pay EPA $325,000 in cash, to be held in reserve in a special account for future cleanup work at the BPOU; Aerojet, a potentially responsible party at the BPOU, will pay EPA $9 million as partial reimbursement of its past costs to be held in the same special account for the same purposes; Aerojet will pay $40 million into a third-party escrow account that may, with EPA approval, be used to fund construction of the groundwater remedy at the BPOU; and Aerojet's parent company, GenCorp Inc., will provide a written guaranty of $25 million to assure Aerojet's performance of future cleanup activities.

DATES: This Prospective Purchaser Agreement, as modified, is effective September 25, 2001.

Public Comments: The public comment period on the proposed Prospective Purchaser Agreement closed on September 10, 2001. EPA received 100 comments from various entities and individuals. Responses to these comments have been prepared and are available for public inspection at the address below.

ADDRESSES: The Prospective Purchaser Agreement, as modified, the Response to Public Comments and additional background documents relating to the settlement are available for public inspection in the Superfund Records Center, San Gabriel Valley Superfund Site file, at the U.S. Environmental Protection Agency, 75 Hawthorne Street, San Francisco, CA 94105. The modified Prospective Purchaser Agreement can be accessed through the Internet on EPA Region 9's Website located at: http://www.epa.gov/region09/waste/brown/ppa.html.

A copy of the Agreement may be obtained from Lewis Maldonado, Senior Counsel (ORC-3), Office of Regional Counsel, U.S. EPA Region IX, 75 Hawthorne Street, San Francisco, CA 94105. Comments should reference “Northrop Grumman PPA, San Gabriel Superfund Site” and “Docket No. 2001-15” and should be addressed to Lewis Maldonado at the above address.

FOR FURTHER INFORMATION CONTACT: Lewis Maldonado, Senior Counsel (ORC-3), Office of Regional Counsel, U.S. EPA Region IX, 75 Hawthorne Street, San Francisco, CA 94105; phone: (415) 744-1342; fax (415) 744-1041; e-mail: maldonado.lewis@epa.gov.

Dated: September 25, 2001.
John Kemmerer,
Acting Director, Superfund Division, Region IX.

[FR Doc. 01-24593 Filed 10-1-01; 8:45 am]

BILLING CODE 6560-50-P